ENVIRONMENTAL PROTECTION AGENCY

[FRL-6529-8]

Agency Information Collection Activities: Proposed Collection; Comment Request; Significant New Alternatives Policy (SNAP) Program Final Rulemaking Under Title VI of the Clean Air Act Amendments of 1990

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB) for review and approval: Significant New Alternatives Policy (SNAP) Program Final Rulemaking under Title VI of the Clean Air Act Amendments of 1990, OMB Control No. 2060-0226, expiring April 30, 2000. Before submitting the ICR to OMB for review and approval, EPA is soliciting comments on specific aspects of the proposed information collection as described below.

DATES: Comments must be submitted on or before February 25, 2000.

ADDRESSES: Comments should be submitted to the attention of Air Docket A-91-42; Environmental Protection Agency; 401 M Street, SW. (MC-6102); Washington, DC 20460 (submissions may be faxed to (202) 260-4400). The Air Docket is located in Room M-1500; Waterside Mall (Ground Floor); U.S. Environmental Protection Agency; 401 M Street, SW; Washington, DC 20460. The docket may be inspected Monday through Friday from 8:00 a.m to 5:30 p.m. A reasonable fee may be charged for copying docket materials. For further questions, contact the docket at (202) 260-7549.

FOR FURTHER INFORMATION CONTACT: Kelly Davis at phone (202) 564-2303, fax: (202) 565-2096 or email: davis.kelly@epa.gov

SUPPLEMENTARY INFORMATION:

Title: Significant New Alternatives Policy (SNAP) Program Final Rulemaking Under Title VI of the Clean Air Act Amendments of 1990 (OMB Control No. 2060-0226; EPA ICR No. 1596.04) expiring 4/30/00. This is a request for extension of a currently approved collection.

Abstract: Information collected under this rulemaking is necessary to implement the requirements of the Significant New Alternatives Policy (SNAP) program for evaluating and regulating substitutes for ozone-depleting chemicals being phased out under the stratospheric ozone protection provisions of the Clean Air Act (CAA). Under CAA Section 612, EPA is authorized to identify and restrict the use of substitutes for class I and class II ozone-depleting substances where EPA determines other alternatives exist that reduce overall risk to human health and the environment. The SNAP program, based on information collected from the manufacturers, formulators, and/or sellers of such substitutes, identifies acceptable substitutes. Responses to the collection of information are mandatory under Section 612 for anyone who sells or, in certain cases, uses substitutes for an ozone-depleting substance after April 18, 1994, the effective date of the final rule. Under CAA Section 114(c), emissions information may not be claimed as confidential. An agency may not conduct or sponsor, and a person is not required to respond to, a collection of information unless it displays a currently valid OMB control number. The OMB control numbers for EPA's regulations are listed in 40 CFR Part 9 and 48 CFR Chapter 15.

EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: EPA estimates 330 total respondents per year for all SNAP activities included in this ICR. Each respondent will respond only once, with a total annual hour burden of 10,363 hours. The labor cost associated with these hours is approximately $52.00/hour, equaling a total labor cost of $538,772 per year. The annualized start-up and operation and maintenance costs total $44,452. The total annual cost burden of this information collection is $583,224.

An ICR SF-83 Supporting Statement for this collection request is available in Air Docket A-91-42 Category IX-A-22 by contacting the Docket at (202) 260-7548. This supporting statement provides detailed explanation and calculations of the burden presented above.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 18, 2000.
Paul Stolpman,
Director, Office of Atmospheric Programs.

[FR Doc. 00-1837 Filed 1-25-00; 8:45 am]

BILLING CODE 6560-50-U